FEDERAL COMMUNICATIONS COMMISSION

Public Information Collections Approved by Office of Management and Budget

June 15, 2004.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0894.

OMB Approval Date: 6/07/2004.

Expiration Date: 6/30/2007.

Title: Certification Letter Accounting for Receipt of Federal Support—CC Docket Nos. 96-45 and 96-262.

Form No.: N/A.

Estimated Annual Burden: 52 responses; 162 total annual burden hours; 3-5 hours average per respondent.

Needs and Uses: The Commission requires states to certify that carriers within the state had accounted for its receipt of federal support in its rates or otherwise used the support pursuant with section 254 (e). In the Remand Order, the Commission, modifies the high-cost universal service support mechanism for non-rural carriers and adopt measures to induce states to ensure reasonable comparability of rural and urban rates in areas served by non-rural carriers.

OMB Control No.: 3060-0807.

OMB Approval date: 6/07/2004.

Expiration Date: 6/30/2007.

Title: Section 51.803 and Supplemental Procedures for Petitions to Section 252(e)(5) of the Communications Act of 1934, as amended.

Form No.: N/A.

Estimated Annual Burden: 52 responses; 2,040 total annual burden hours; 20-40 hours per respondent.

Needs and Uses: Any interested party seeking preemption of a state commission's jurisdiction based on the state commission's failure to act shall notify the Commission. See 47 U.S.C. 252(e)(5) and 47 CFR 51.803. In a Public Notice, the Commission set out procedures for filing petitions for preemption pursuant to section 252(e)(5). All of the information will be used to ensure that petitioners have complied with their obligations under the Communications Act of 1934, as amended.

Federal Communications Commission.
Marlene H. Dortch,
Secretary.

[FR Doc. 04-14328 Filed 6-23-04; 8:45 am]

BILLING CODE 6712-01-P